DEPARTMENT OF COMMERCE

International Trade Administration

[A-570-866]

Notice of Antidumping Duty Order: Certain Folding Gift Boxes From the People's Republic of China

AGENCY: Import Administration, International Trade Administration, Department of Commerce.

ACTION: Notice of antidumping duty order.

SUMMARY: On December 5, 2001, the Department of Commerce issued its amended final determination of sales at less than fair value with respect to certain folding gift boxes from the People's Republic of China. On December 26, 2001, the International Trade Commission notified the Department of its determination that an industry in the United States is being injured by reason of imports of subject merchandise from the People's Republic of China that are sold at less than fair value. The Department of Commerce hereby issues an antidumping duty order on certain folding gift boxes from the People's Republic of China.

EFFECTIVE DATE: January 8, 2002.

FOR FURTHER INFORMATION CONTACT: Thomas Schauer or George Callen, Import Administration, International Trade Administration, U.S. Department of Commerce, 14th Street and Constitution Avenue, NW., Washington, DC 20230; telephone: (202) 482-0410 and (202) 482-0180, respectively.

The Applicable Statute

Unless otherwise indicated, all citations to the statute are references to the provisions effective January 1, 1995, the effective date of the amendments made to the Tariff Act of 1930 (“the Act”) by the Uruguay Round Agreements Act. In addition, unless otherwise indicated, all citations to the Department's regulations are to the regulations at 19 CFR part 351 (April 2001).

Scope of the Order

The products covered by this order are certain folding gift boxes. Folding gift boxes are a type of folding or knock-down carton manufactured from paper or paperboard. Folding gift boxes are produced from a variety of recycled and virgin paper or paperboard materials, including, but not limited to, clay-coated paper or paperboard and kraft (bleached or unbleached) paper or paperboard. The scope of the order excludes gift boxes manufactured from paper or paperboard of a thickness of more than 0.8 millimeters, corrugated paperboard, or paper mache. The scope also excludes those gift boxes for which no side of the box, when assembled, is at least nine inches in length.

Folding gift boxes included in this scope are typically decorated with a holiday motif using various processes, including printing, embossing, debossing, and foil stamping, but may also be plain white or printed with a single color. The subject merchandise includes folding gift boxes, with or without handles, whether finished or unfinished, and whether in one-piece or multi-piece configuration. One-piece gift boxes are die-cut or otherwise formed so that the top, bottom, and sides form a single, contiguous unit. Two-piece gift boxes are those with a folded bottom and a folded top as separate pieces. Folding gift boxes are generally packaged in shrink-wrap, cellophane, or other packaging materials, in single or multi-box packs for sale to the retail customer. The scope excludes folding gift boxes that have a retailer's name, logo, trademark or similar company information printed prominently on the box's top exterior (such folding gift boxes are often known as “not-for-resale” gift boxes or “give-away” gift boxes and may be provided by department and specialty stores at no charge to their retail customers). The scope of the order also excludes folding gift boxes where both the outside of the box is a single color and the box is not packaged in shrink-wrap, cellophane, other resin-based packaging films, or paperboard.

Imports of the subject merchandise are classified under Harmonized Tariff Schedules of the United States (HTSUS) subheadings 4819.20.0040 and 4819.50.4060. These subheadings also cover products that are outside the scope of this order. Furthermore, although the HTSUS subheadings are provided for convenience and customs purposes, our written description of the scope of this order is dispositive.

Antidumping Duty Order

In accordance with section 735(a) of the Tariff Act, the Department made its final determination that certain folding gift boxes from the People's Republic of China (“PRC”) are being sold at less than fair value. See Notice of Final Determination of Sales at Less Than Fair Value: Certain Folding Gift Boxes From the People's Republic of China, 66 FR 58115 (November 20, 2001). We received ministerial error allegations from one respondent and upon consideration of these allegations, we issued an amended final determination. See Notice of Amended Final Determination of Sales at Less Than Fair Value: Certain Folding Gift Boxes From the People's Republic of China, 66 FR 63216 (December 5, 2001).

On December 26, 2001, in accordance with section 735(d) of the Act, the International Trade Commission (“the Commission”) notified the Department of its final determination pursuant to section 735(b)(1)(A)(i) of the Tariff Act that an industry in the United States is materially injured by reason of less-than-fair-value imports of subject merchandise from the PRC. Therefore, in accordance with section 736(a)(1) of the Act, the Department will direct the Customs Service to assess, upon further advice by the Department, antidumping duties equal to the amount by which the normal value of the merchandise exceeds the export price of the merchandise for all relevant entries of folding gift boxes from the PRC. These antidumping duties will be assessed on all unliquidated entries of folding gift boxes from the PRC entered, or withdrawn from the warehouse, for consumption on or after August 6, 2001, the date on which the Department published its Notice of Preliminary Determination of Sales at Less Than Fair Value: Certain Folding Gift Boxes From the People's Republic of China, 66 FR 40973 (August 6, 2001). On or after the date of publication of this notice, the Customs Service must require, at the same time as importers would normally deposit estimated duties on this merchandise, a cash deposit equal to the estimated weighted-average antidumping duty margins as noted below for all companies except Max Fortune Industrial Ltd. Because we found a de minimis margin for Max Fortune Industrial Ltd., Max Fortune Industrial Ltd. is excluded from this order. The “PRC-wide” rate applies to all exporters of subject merchandise not specifically listed. The weighted-average dumping margins are as follows:

Exporter/manufacturer | Weighted-average percent margin
Red Point Paper Products Co., Ltd | 8.90
Max Fortune Industrial Ltd. (de minimis) | 1.67
PRC-wide Rate | 164.75

This notice constitutes the antidumping duty order with respect to folding gift boxes from the PRC. Interested parties may contact the Department's Central Records Unit, Room B-099 of the main Commerce building, for copies of an updated list of antidumping duty orders currently in effect.

This order is published in accordance with section 736(a) of the Act.

Dated: January 2, 2002.
Richard W. Moreland,
Acting Assistant Secretary for Import Administration.

[FR Doc. 02-436 Filed 1-7-02; 8:45 am]

BILLING CODE 3510-DS-P